DEPARTMENT OF HOUSING AND URBAN DEVELOPMENT

[Docket No. FR-4972-N-06]

Notice of Proposed Information for Public Comments, Housing Opportunities for Persons with AIDS (HOPWA) Program Annual Reporting Requirements

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: May 23, 2005.

ADDRESSES: Interested persons are invited to submit comments regarding this proposal. Comments should refer to the proposal by name and/or OMB Control Number and should be sent to: Shelia Jones, Reports Liaison Officer, Department of Housing Urban and Development, 451 7th Street, SW., Room 7232, Washington, DC 20410.

FOR FURTHER INFORMATION CONTACT: William Rudy, 202-708-1827, Telephone number (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information to those who are to respond; including through the use of appropriate automated collection techniques or other forms of information technology, e.g., electronic submission of responses.

This Notice also lists the following information:

Title of Proposal: Annual performance reporting requirements for formula and competitive Housing Opportunities for Persons with AIDS (HOPWA) grant recipients.

OMB Control Number, if applicable: 2506-0133.

Description of the need for the information and proposed use: The Department is implementing a new long-term performance measure for client outcomes that will assess program success in assisting HOPWA clients achieve and maintain housing stability, avoid homelessness, and improve access to HIV treatment and other care. These changes are intended to assist HOPWA grantees and project sponsors aggregate results from the use of their HOPWA resources by providing housing assistance as the annual output measure and to collect individual client information demonstrating the outcome for improved housing stability for this special needs population.

Agency form numbers, if applicable: HUD-40110-C and HUD-40110-D.

Estimation of the total numbers of hours needed to prepare the Information collection including number of respondents, frequency of response, and hours of response.

Description of information collection (annual reports) | Number of respondents | Responses per year | Total annual responses | Hrs. per responses | Total hours
40110-C Annual Progress Report (APR) | 85 | 1 | 85 | 66 | 5,610
40110-D Consolidated Annual Performance and Evaluation Report (CAPER) | 122 | 1 | 122 | 36 | 4,392
Recordkeeping | 207 | 1 | 207 | 72 | 14,904
Grant amendments and extensions | 20 | 1 | 20 | 20 | 400
Uniform relocation act appeals process | 5 | 1 | 5 | 2 | 10
Environmental review recordkeeping | 20 | 1 | 20 | 20 | 400
Miscellaneous other reporting | 40 | 1 | 40 | 6 | 240
Total of grantee annual reporting burden: | 207 | 1 | 207 |  | 25,956

Status of the proposed information collection: This is a revision to existing annual data collection requirements in order to measure annual performance outcomes. Implementation of these new reporting requirements will commence during FY 2005.

Authority: The Paperwork Reduction Act of 1995, 44 U.S.C. Chapter 35, as amended.

Dated: March 17, 2005.
Nelson R. Bregon,
General Deputy Assistant Secretary for Community Planning and Development.

[FR Doc. 05-5785 Filed 3-23-05; 8:45 am]

BILLING CODE 4210-29-M